DEPARTMENT OF HEALTH AND HUMAN SERVICES

Health Care Financing Administration

[Document Identifier: HCFA-R-131]

Agency Information Collection Activities: Proposed Collection; Comment Request; Public Information Collection Meeting to Discuss Proposed Revisions

AGENCY: Health Care Financing Administration, DHHS.

In compliance with the requirement of section 3506(c)(2)(A) of the Paperwork Reduction Act of 1995, the Health Care Financing Administration (HCFA), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: Revision of a currently approved collection; Title of Information Collection: Part B Advance Beneficiary Notice and Supporting Regulations in 42 CFR 411.404 and 411.408; Form No.: HCFA-R-131 (OMB#0938-0566); Use: Part B suppliers, physicians, and practitioners who accept assignment and Part A providers furnishing Part B services—these entities may bill a patient for services denied by Medicare as not reasonable and necessary under Medicare program standards if they have informed the patient, before furnishing the services, that Medicare was likely to deny Part B payment for the services; nonparticipating physicians when they do not accept assignment—these physicians may bill a patient for physician services denied by Medicare as not reasonable and necessary under Medicare program standards if they have informed the patient, before furnishing the services, that Medicare was likely to deny Part B payment for the services and the patient, after being so informed, agreed to pay for the services; suppliers furnishing Part B durable medical equipment, prosthetics, orthotics, and supplies (DMEPOS), whether or not they accept assignment—these suppliers may bill a patient for DMEPOS items and services denied by Medicare: (1) As not reasonable and necessary under Medicare program standards, (2) because the supplier made an unsolicited telephone contact, (3) because the supplier failed to obtain a supplier number, or (4) because the supplier failed to obtain an advance determination of coverage, if they have informed the patient, before furnishing the items and/or services, that Medicare was likely to deny Part B payment for the items and/or services and the patient, after being so informed, agreed to pay for the services; Frequency: On occasion; Affected Public: Individuals or households; Number of Respondents: 980,742; Total Annual Responses: 18,823,150; Total Annual Hours: 2,352,894.

To obtain copies of the supporting statement and any related forms for the proposed paperwork collections referenced above, access HCFA's Web Site address at http://www.hcfa.gov/regs/prdact95.htm, or E-mail your request, including your address, telephone number, OMB number, and HCFA document identifier, to Paperwork@hcfa.gov, or call the Reports Clearance Office on (410) 786-1326. Written comments and recommendations for the proposed information collections must be mailed within 60 days of this notice directly to the HCFA Paperwork Clearance Officer designated at the following address: HCFA, Office of Information Services, Security and Standards Group, Division of HCFA Enterprise Standards, Attention: Julie Brown, Room N2-14-26, 7500 Security Boulevard, Baltimore, Maryland 21244-1850.

In addition, HCFA will hold a public meeting to permit interested parties an opportunity to give their views on the content and distribution of the Part B Advance Beneficiary Notices. Representatives of providers and suppliers furnishing Part B services, health care consumer advocacy groups, and other members of the public who wish to participate in the public meeting are asked to notify HCFA, in advance, of their interest in attending. At this meeting, HCFA will solicit comments on the issues listed in the first paragraph of this notice.

The public meeting will be held on Tuesday, November 28, 2000, from 11 a.m. to 4 p.m., EST in the Multipurpose Room (capacity: 100 persons) of the Health Care Financing Administration, 7500 Security Blvd., Baltimore MD 21244. Interested parties should provide notification of their planned attendance to Raymond Boyd either by telephone (410-786-4544), fax (410-786-4047), or e-mail (rboyd@HCFA.gov), no later than 3 p.m., Friday, November 22, 2000.

Dated: October 13, 2000.
John P. Burke, III,
Reports Clearance Officer, Security and Standards Group, Division of HCFA Enterprise Standards.

[FR Doc. 00-27526 Filed 10-25-00; 8:45 am]

BILLING CODE 4120-03-P